DEPARTMENT OF HEALTH AND HUMAN SERVICES

Centers for Disease Control and Prevention

Clinical Laboratory Improvement Advisory Committee (CLIAC): Correction

ACTION: Notice; correction.

Times and Dates: 8:30 a.m.-5 p.m., September 11, 2002. 8:30 a.m.-3:30 p.m., September 12, 2002.

SUMMARY: The Clinical Laboratory Improvement Advisory Committee published a notice in the Federal Register of August 20, 2002, announcing a meeting. The location of the meeting has been changed.

Correction

In the Federal Register of August 20,2002, Volume 67, Number 161, Notice, Page 53950, “Place” should read: Place: Atlanta Marriott Century Center, 2000 Century Boulevard, NE., Atlanta, Georgia. Telephone: 404/325-0000.

FOR FURTHER INFORMATION CONTACT: Rhonda Whalen, 770/488-8042.

The Director, Management Analysis and Services Office, has been delegated the authority to sign Federal Register Notices pertaining to announcements of meetings and other committee management activities, for both the Centers for Disease Control and Prevention and the Agency for Toxic Substances and Disease Registry.

Dated: August 26, 2002.
John Burckhardt,
Acting Director, Management Analysis and Services Office, Centers for Disease Control and Prevention.

[FR Doc. 02-22170 Filed 8-29-02; 8:45 am]

BILLING CODE 4163-18-P